NUCLEAR REGULATORY COMMISSION

[Docket No. 70-36]

Environmental Assessment and Finding of No Significant Impact of License Amendment for Westinghouse Electric Company LLC

AGENCY: Nuclear Regulatory Commission.

ACTION: Amendment of Westinghouse Electric Company LLC, Materials License SNM-33 to exempt the licensee from the fissile material package standards for shipment of certain bulk materials (e.g. soils) containing low concentrations of uranium-235 contamination and to impose limits on these shipments.

The U.S. Nuclear Regulatory Commission is considering the amendment of Special Nuclear Material License SNM-42 to exempt the licensee from the fissile material package standards for shipment of certain bulk materials (e.g. soils) containing low concentrations of uranium-235 contamination at the Westinghouse Electric Company LLC facility located in Hematite, MO, and to impose limits on these shipments, and has prepared an Environmental Assessment in support of this action.

Environmental Assessment

1.0 Introduction

1.1 Background

The Nuclear Regulatory Commission (NRC) staff has evaluated the environmental impacts of the exemption of Westinghouse Electric Company from the fissile material package standards for shipment of certain bulk materials (e.g. soils) containing low concentrations of uranium-235 contamination, with limits placed on the shipments to ensure adequate controls for nuclear criticality safety. This Environmental Assessment (EA) has been prepared pursuant to the Council on Environmental Quality (CEQ) regulations (40 CFR parts 1500-1508) and NRC regulations (10 CFR part 51) which implement the requirements of the National Environmental Policy Act (NEPA) of 1969. The purpose of this document is to assess the environmental consequences of the proposed license amendment.

The Westinghouse facility in Hematite, MO, was authorized under NRC Materials License SNM-33 to manufacture nuclear reactor fuel utilizing Special Nuclear Material (SNM), specifically low-enriched uranium, and to receive, possess, use, store and transfer source material. On June 29, 2001, all activities under NRC Materials License SNM-33 related to the possession and use of low-enriched uranium for fabrication of power reactor fuel ceased in their entirety. Activities at the Hematite site are now solely limited to those necessary to remove the facility and site safely from service and to reduce the residual radioactivity to a level that permits the eventual release of the site.

1.2 Review Scope

In accordance with 10 CFR part 51, this EA serves to (1) present information and analysis for determining whether to issue a Finding of No Significant Impact (FONSI) or to prepare an Environmental Impact Statement (EIS); (2) fulfill the NRC's compliance with the National Environmental Policy Act (NEPA) when no EIS is necessary; and (3) facilitate preparation of an EIS if one is necessary. Should the NRC issue a FONSI, no EIS would be prepared and the license amendment would be granted.

1.3 Proposed Action

The proposed action is to amend NRC Materials License SNM-33 to exempt the licensee from the fissile material package standards for shipment of certain bulk materials containing low concentrations of uranium-235 contamination and to impose limiting conditions to ensure adequate controls for nuclear criticality safety. These materials would be exempt from fissile material classification and the fissile material package standards of 10 CFR 71.55 and 71.59, but subject to other requirements of 10 CFR part 71 and the further limiting conditions. A Safety Evaluation Report (SER) has been prepared by the NRC staff and contains a discussion of the safety considerations for approval of the amendment. The SER will be included in the license amendment when it is issued.

1.4 Need for Proposed Action

Westinghouse is currently decommissioning the Hematite site and one of the near term goals is to reduce the site inventory of SNM by removing materials currently on-site to other appropriate licensed facilities.

On February 10, 1997, the NRC issued an emergency direct final rule (62 FR 5913) changing the fissile material exemption specifications of 10 CFR part 71. The revised rule limits the fissile-material mass in a consignment and restricts the presence of select moderators with very low neutron-absorption properties (i.e., special moderators). Under this rule, specifically 10 CFR 71.53(a), Westinghouse would be limited to 400 grams of U-235 per consignment. The imposition of this 400-gram U-235 limit per consignment will increase the number of shipments required to decommission the Westinghouse facility. Therefore, Westinghouse submitted this license amendment request for a specific exemption from the requirements of 10 CFR 71.55 and 71.59 for specified SNM shipments with greater than 400 grams U-235 per consignment.

1.5 Alternatives

The alternatives available to the NRC are:

1. Approve the license amendment request as submitted; or

2. Deny the amendment request.

2.0 Affected Environment

The affected environment for Alternative 1 would be the immediate vicinity of the vehicle used to transport the material to a licensed disposal facility.

The affected environment for Alternative 2 is the Westinghouse site. A full description of the site and its characteristics is given in the 1994 Environmental Assessment for the Renewal of the NRC license for Westinghouse. The Westinghouse facility is located on a site of about 228 acres in Jefferson County, Missouri, approximately 3/4 mile northeast of the unincorporated town of Hematite, Missouri and 35 miles south of St. Louis, Missouri.

3.0 Environmental Impacts of Proposed Action and Alternatives

3.1 Occupational and Public Health

Alternative 1

The risk to human health from the transportation of all radioactive material in the U.S. was evaluated in the Final Environmental Impact Statement on the Transportation of Radioactive Material by Air and Other Modes (NRC, 1977). The principal radiological environmental impact during normal transportation is direct radiation exposure to nearby persons from radioactive material in the package. The average annual individual dose from all radioactive material transportation in the U.S. was calculated to be approximately 0.5 mrem, well below the 10 CFR part 20 requirement of 100 mrem for a member of the public.

Occupational health was also considered in the Final Environmental Impact Statement on the Transportation of Radioactive Material by Air and Other Modes (NRC, 1977). The average annual occupational dose to the driver(s) is estimated to be 8.7 mSv (870 mrem), which is below the 10 CFR Part 20 requirement of 50 mSv (5000 mrem). The Department of Transportation (DOT) regulations in 49 CFR 177.842(g) require that the radiation dose may not exceed 0.02 mSv (2 mrem) per hour in any position normally occupied in a motor vehicle.

The NRC staff evaluated the possibility of a criticality accident due to transportation of this material. Based on the statements and representations in the application, the staff concluded that limiting the contents as described in the application will provide adequate assurance that an inadvertent criticality cannot occur if the materials are exempt from the fissile material classification and fissile material package standards of 10 CFR 71.55 and 71.59. A detailed discussion of this analysis can be found in the Safety Evaluation Report for this amendment.

Under Alternative 1, the doses to the public and to the workers are not increased beyond those considered in the Final Environmental Impact Statement on the Transportation of Radioactive Material by Air and Other Modes (NRC, 1977). Therefore, shipment of these materials would not affect the assessment of environmental impacts or the conclusions in the Final Environmental Impact Statement on the Transportation of Radioactive Material by Air and Other Modes (NRC, 1977).

Alternative 2

The risk to the public health from radiological materials is not expected to increase as a result of denying this amendment request. If this amendment request was denied, the licensee would be required to ship the contaminated soils in smaller containers. Increasing the number of shipments would not affect the assessment of environmental impacts or the conclusions in the Final Environmental Impact Statement on the Transportation of Radioactive Material by Air and Other Modes (NRC, 1977).

Denial of this amendment will result in a larger number of shipments, therefore, a slight increase in nonradiological truck emissions from transportation would be expected.

The occupational health impacts would not change significantly as a result of denial of this amendment request. The workers at the facility will have the same dose regardless of how the material is transported. Occupational doses at the facility may change slightly as a result of the increase in the number of packages that workers must prepare and handle; however, the facility will continue to implement NRC-approved radiation safety procedures for handling radioactive materials.

3.2 Effluent Releases, Environmental Monitoring, Water Resources, Geology, Soils, Air Quality, Demography, Biota, Cultural and Historic Resources

Alternative 1

The NRC staff has determined that the approval of the proposed amendment will not impact effluent releases, environmental monitoring, water resources, geology, soils, air quality, demography, biota, or cultural or historic resources under normal transport conditions.

Alternative 2

The NRC staff has determined that denial of the proposed amendment will not impact effluent releases, environmental monitoring, water resources, geology, soils, air quality, demography, biota, or cultural or historic resources at or near the Westinghouse site.

3.3 Conclusions

Based on its review, the NRC staff has concluded that the environmental impacts associated with the proposed action are not significant and, therefore, do not warrant denial of the license amendment request. The staff has determined that Alternative 1, approval of the license amendment request as submitted, is the appropriate alternative for selection. Based on an evaluation of the environmental impacts of the amendment request, the NRC has determined that the proper action is to issue a FONSI in the Federal Register.

4.0 Agencies and Persons Contacted

The NRC provided the draft Environmental Assessment and FONSI to staff from the Missouri Department of Natural Resources (DNR) on November 21, 2001. NRC staff provided the licensee's exemption request and NRC's Safety Evaluation Report supporting the exemption. NRC staff also participated in a conference call with the DNR staff on February 15, 2002. No comments were received from DNR on the Environmental Assessment and FONSI.

Because the proposed action is entirely within existing facilities or existing roadways, the NRC has concluded that there is no potential to affect endangered species or historic resources, and therefore consultation with the State Historic Preservation Society and the U.S. Fish and Wildlife Service was not necessary.

5.0 References

U.S. Nuclear Regulatory Commission (NRC), December 1977, “Final Environmental Impact Statement on the Transportation of Radioactive Material by Air and Other Modes.”

U.S. Nuclear Regulatory Commission (NRC), March 1994, “Environmental Assessment for Renewal of Special Nuclear Material License SNM-33.”

Finding of No Significant Impact

The Commission has prepared the above Environmental Assessment related to the amendment of Special Nuclear Material License SNM-33. On the basis of the assessment, the Commission has concluded that environmental impacts associated with the proposed action would not be significant and do not warrant the preparation of an Environmental Impact Statement. Accordingly, it has been determined that a Finding of No Significant Impact is appropriate.

In accordance with 10 CFR 2.790 of the NRC's “Rules of Practice,” the Environmental Assessment and the documents related to this proposed action will be available electronically for public inspection from the Publicly Available Records (PARS) component of NRC's document system (ADAMS). ADAMS is accessible from the NRC Web site at http://www.nrc.gov/NRC/ADAMS/ index.html (the Public Electronic Reading Room).

The NRC contact for this licensing action is Mary Adams, who may be contacted at (301) 415-7249 or by e-mail at mta@nrc.gov for more information about the licensing action.

Dated at Rockville, Maryland, this 29th day of March, 2002.
For the Nuclear Regulatory Commission.
Michael F. Weber,
Director, Division of Fuel Cycle Safety and Safeguards, Office of Nuclear Material Safety and Safeguards.

[FR Doc. 02-8608 Filed 4-9-02; 8:45 am]

BILLING CODE 7590-01-P